DEPARTMENT OF HOMELAND SECURITY

DHS Data Privacy and Integrity Advisory Committee; Correction

AGENCY: The Department of Homeland Security (DHS), Privacy Office.

ACTION: Request for applicants for appointment to the DHS Data Privacy and Integrity Advisory Committee; correction.

SUMMARY: The Department of Homeland Security (DHS) is correcting a notice published in the Federal Register on June 1, 2021 requesting for applications for membership on the Data Privacy and Integrity Advisory Committee. In the DATES section, the notice incorrectly listed a due date for applications of June 23, 2021. The correct date should be July 1, 2021, to allow for a 30-day application period.

FOR FURTHER INFORMATION CONTACT: Nicole Sanchez, 202-343-1776, or PrivacyCommittee@hq.dhs.gov. Include the Docket Number (DHS-2021-0022) in the subject line of the message.

SUPPLEMENTARY INFORMATION:

Correction

In the Federal Register of June 1, 2021 at FR Doc 2021-11447, on page 29274, in the second column, in the DATES section, replace the date, “June 23, 2021” with the date “July 1, 2021.”

Nicole Sanchez,
Designated Federal Official.

[FR Doc. 2021-13311 Filed 6-23-21; 8:45 am]

BILLING CODE 9110-9L-P